DEPARTMENT OF COMMERCE

Economic Development Administration

Agency Information Collection Activities; Submission for OMB Review; Comment Request; Workforce System Metrics

AGENCY: Economic Development Administration, Department of Commerce.

ACTION: Notice of Information Collection, request for comment.

SUMMARY: The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 26, 2023 during a 60-day comment period. This notice allows for an additional 30 days for public comments.

ADDRESSES: Interested persons are invited to submit written comments via email to Patrick Bourke, Good Jobs Program Lead, Economic Development Administration, at PBourke@eda.gov or PRAcomments@doc.gov. Do not submit Confidential Business Information or otherwise sensitive or protected information.

FOR FURTHER INFORMATION CONTACT: Requests for additional information or specific questions related to collection activities should be directed to Patrick Bourke, Good Jobs Program Lead, Economic Development Administration, by phone at (202) 209-4295 or by email PBourke@eda.gov.

SUPPLEMENTARY INFORMATION:

I. Abstract

The Economic Development Administration (EDA) leads the Federal economic development agenda by promoting innovation and competitiveness, preparing American regions for growth and success in the worldwide economy. Guided by the basic principle that sustainable economic development should be driven locally, EDA works directly with communities and regions to help them build the capacity for economic development based on local business conditions and needs. The Public Works and Economic Development Act of 1965 (PWEDA) (42 U.S.C. 3121 et seq.) is EDA's organic authority and is the primary legal authority under which EDA awards financial assistance. Under PWEDA, EDA provides financial assistance to both rural and urban distressed communities by fostering entrepreneurship, innovation, and productivity through investments in infrastructure development, capacity building, and business development to attract private capital investments and new and better jobs to regions experiencing economic distress. Further information on EDA programs and financial assistance opportunities can be found at www.eda.gov.

To effectively administer and monitor its economic development assistance programs, EDA collects certain information from applications for, and recipients of, EDA investment assistance. The purpose of this notice is to seek comments from the public and other Federal agencies on a request for a revision to the information collected from recipients of awards under the EDA American Rescue Plan Act (ARPA) Good Jobs Challenge. This is aligned with ensuring that Federal workforce investments are evidence-based and data-driven, and accountable to participants and the public. The original data collection instrument was filed under OMB 0610-0109. This request is to revise an existing question and add a new question to the current data collection instrument. The revised question will ask grantees to report participants' training status instead of asking if they have completed training, this will provide further disaggregated data. The new question will be asked of training providers to provide the total number of participants that completed the training program and have no plans to re-enroll in further training.

II. Method of Collection

Data will be collected electronically.

III. Data

OMB Control Number: 0610-0109.

Form Number(s): None.

Type of Request: Revision of a currently approved collection.

Number of Respondents: System Lead Entities: 32 respondents, responding semiannually; Training Providers: 200 respondents, responding quarterly; and Participants: 10,000 respondents, responding once. As the Good Jobs Challenge is a new program, EDA anticipates that these estimates will continue to be further refined based on data determined post-award.

Average Hours per Response: System Lead Entity: 2 hours; Training Providers: 45 minutes per provider; Participants: 5 minutes.

Type of respondent (annual) | Number of respondents | Hours per response | Number of responses per year | Total estimated time (hours)
System Lead Entities | 32 | 2 hours | 2 (Semiannual) | 128
Training Providers | * 400 | 45 minutes per training provider | 4 (Quarterly) | 1200
Participants | * 4,200 | 5 minutes per participant | 4 (Quarterly) | 1,400
Total | 4,632 |  |  | 2,728

Burden Hours: 2,728 hours.

Affected Public: Recipients of ARPA Good Jobs Challenge awards, which may include a(n): District Organization; Indian Tribe or a consortium of Indian Tribes; State, county, city, or other political subdivision of a State, including a special purpose unit of a state or local government engaged in economic or infrastructure development activities or a consortium of political subdivisions; Institution of Higher Education or a consortium of institutions of higher education; or Public or private non-profit organization or association, including labor unions, acting in cooperation with officials of a political subdivision of a State. Additionally, training providers and participants in regional workforce training systems will be affected.

Respondent's Obligation: Mandatory for System Lead Entities and Training Providers.

Legal Authority: The Public Works and Economic Development Act of 1965 (42 U.S.C. 3121 et seq.).

This information collection request may be viewed at www.reginfo.gov. Follow the instructions to view the Department of Commerce collections currently under review by OMB.

IV. Request for Comments

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0610-0109.

Sheleen Dumas,
Department PRA Clearance Officer, Office of the Under Secretary for Economic Affairs, Commerce Department.

[FR Doc. 2024-03938 Filed 2-26-24; 8:45 am]

BILLING CODE 3510-34-P